DEPARTMENT OF COMMERCE

National Oceanic and Atmospheric Administration

RIN 0648-XC120

Aquatic Nuisance Species Task Force Strategic Plan 2013—2017

Correction

In notice document 2012-19161, appearing on pages 46730-46732 in the issue of Monday, August 6, 2012, make the following correction:

On page 46730, in the third column, under the heading DATES, the entry “Comments must be received within 45 days after September 20, 2012.” should read “Comments must be received within 45 days after August 6, 2012.”

[FR Doc. C1-2012-19161 Filed 9-18-12; 8:45 am]

BILLING CODE 1505-01-D